DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcements (FOAs): IP17-001, Household Transmission of Influenza Viruses in the Community; IP17-004, Research on the Epidemiology, Prevention and Control of Influenza and Other Respiratory Viruses in India; and CK17-003, Using Influenza-like Illness-specific School Absenteeism as an Early Warning System for Detecting Community Influenza.

Time and Date: 10:00 a.m.-5:00 p.m., EDT, May 2, 2017 (Closed).

Place: Teleconference.

Status: The meeting will be closed to the public in accordance with provisions set forth in Section 552b(c)(4) and (6), Title 5 U.S.C., and the determination of the Director, Management Analysis and Services Office, CDC, pursuant to Public Law 92-463.

Matters for Discussion: The meeting will include the initial review, discussion, and evaluation of applications received in response to “Household Transmission of Influenza Viruses in the Community”, IP17-001; “Research on the Epidemiology, Prevention and Control of Influenza and Other Respiratory Viruses in India”, IP17-004; and “Using Influenza-like Illness-specific School Absenteeism as an Early Warning System for Detecting Community Influenza”, CK17-003.

Contact Person for More Information: Gregory Anderson, M.S., M.P.H., Scientific Review Officer, CDC, 1600 Clifton Road NE., Mailstop E60, Atlanta, Georgia 30333, Telephone: (404) 718-8833. The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-06673 Filed 4-4-17; 8:45 am]

BILLING CODE 4163-18-P